FEDERAL FINANCIAL INSTITUTIONS EXAMINATION COUNCIL

[Docket No. AS24-01]

Renewal and Revision of a Current Information Collection Request; Standardized Instructions and Format To Be Used for Interim and Final Progress Reporting

AGENCY: Appraisal Subcommittee of the Federal Financial Institutions Examination Council (ASC).

ACTION: Request for public comment.

SUMMARY: In accordance with the Paperwork Reduction Act of 1995, the ASC invites public comments on our intention to request the Office of Management and Budget (OMB) approval to renew an information collection request entitled “ASC Progress Report Standardized Instructions and Format for Interim and Final Progress Reporting.” Under the Paperwork Reduction Act of 1995, an agency may not conduct or sponsor, and a respondent is not required to respond to, an information collection unless it displays a currently valid control number issued by OMB. The requirement for grantees to report on performance is OMB's grants policy.

DATES: Comments must be received on or before March 8, 2024 to be assured of consideration.

ADDRESSES: To view the ASC-PR format, see https://www.asc.gov/sites/default/files/documents/OtherCorrespondence/Progress%20Report%20Form.pdf. Commenters are encouraged to submit comments by the Federal eRulemaking Portal or email, if possible. You may submit comments by any of the following methods:

• Federal eRulemaking Portal: https://www.regulations.gov. Follow the instructions for submitting comments. Click on the “Help” tab on the Regulations.gov home page to get information on using Regulations.gov, including instructions for submitting public comments.

• E-Mail: webmaster@asc.gov. Please include the Docket Number AS24-01 in the subject line.

• Fax: (202) 289-4101. Please include the Docket Number AS24-01 on the fax cover sheet.

• Mail or Hand Delivery/Courier: Address to Appraisal Subcommittee, Attn: Lori Schuster, Management and Program Analyst, 1325 G Street NW, Suite 500, Washington, DC 20005.

In general, the ASC will enter all comments received on the Federal eRulemaking (Regulations.gov) website without change, including any business or personal information that you provide, such as name and address information, email addresses, or phone numbers. Comments received, including attachments and other supporting materials, are part of the public record and subject to public disclosure. Do not enclose any information in your comment or supporting materials that you consider confidential or inappropriate for public disclosure.

The ASC will summarize and/or include your comments in the request for OMB's clearance of this information collection.

You may review comments and other related materials that pertain to this information collection request by any of the following methods:

• Viewing Comments Electronically: Go to https://www.regulations.gov. Click on the “Help” tab on the Regulations.gov home page to get information on using Regulations.gov, including instructions for viewing public comments, viewing other supporting and related materials, and viewing the docket after the close of the comment period.

• Viewing Comments Personally: You may personally inspect comments at the ASC office, 1325 G Street NW, Suite 500, Washington, DC 20005. To make an appointment, please contact Lori Schuster at (202) 595-7578.

FOR FURTHER INFORMATION CONTACT: Regeane Frederique, Grants Director, at (202) 792-1168 or Regeane@asc.gov, Appraisal Subcommittee, 1325 G Street NW, Suite 500, Washington, DC 20005.

SUPPLEMENTARY INFORMATION: The ASC is responsible for monitoring its grantees on the use of Federal funds. The ASC developed this progress report for both interim and final reports for grants issued under the ASC authority. The progress report is submitted to the ASC semi-annually as an attachment to the Standard Form 425, Federal Financial Report.

OMB Number: 3139-0010.

Current Action: Two semiannual reports will be submitted rather than one semiannual report and one annual report. The first semiannual report will be due April 30 that covers the period of October 1-March 31. The second semiannual report will be due on October 30 that covers the period of April 1-September 30. A final report would need to be submitted 120 calendar days after the end of the period of performance.

Type of Review: Extension of a currently approved collection.

Affected Public: ASC grantees.

Estimated Number of Respondents: 55.

Estimated Burden per Response: 1 hour.

Frequency of Response: Twice per year (semi-annual).

Estimated Total Annual Burden: 110 hours.

* * * * *

By the Appraisal Subcommittee.
James R. Park,
Executive Director.

[FR Doc. 2024-00137 Filed 1-5-24; 8:45 am]

BILLING CODE 6700-01-P